ENVIRONMENTAL PROTECTION AGENCY

[EPA-HQ-OPP-2015-0022; FRL-9930-13]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before September 4, 2015.

ADDRESSES: Submit your comments, identified by the docket identification (ID) number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Director, Biopesticides and Pollution Prevention Division (BPPD) (7511P), main telephone number: (703) 305-7090, email address: BPPDFRNotices@epa.gov; or Susan Lewis, Director, Registration Division (RD) (7505P), main telephone number: (703) 305-7090, email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

EPA Registration Number: 86174-3. Docket ID number: EPA-HQ-OPP-2010-0100. Applicant: SciReg, Inc., 12733 Director's Loop, Woodbridge, VA 22192 (on behalf of bio-ferm GmbH, Technologiezentrum Tulln, Technopark 1, Tulln, 3430, Austria). Active ingredients: Aureobasidium pullulans strains DSM 14940 and DSM 14941. Product type: Fungicide. Proposed use: Post-harvest application to citrus. Contact: BPPD.

EPA Registration Numbers: 264-1137 (technical); 264-1169 (end use); Docket ID number: EPA-HQ-OPP-2015-0318. Applicant: Bayer CropScience, 2 T.W. Alexander Drive, RTP, NC 27709. Active ingredient: Fluoxastrobin. Product type: Fungicide. Proposed use: Soybean seed treatment. Contact: RD.

EPA Registration Numbers: 62719-499 and 62719-611. Docket ID number: EPA-HQ-OPP-2015-0188. Applicant: 9330 Zionsville Road, Indianapolis, IN 46268. Active ingredient: Penoxasulam. Product type: Herbicide. Proposed use: Pome fruit group 11-10; stone fruit group 12-12; small fruit vine climbing subgroup 13-07F, except fuzzy kiwifruit; olive; pomegranate; and tree nut group 14-12. Contact: RD.

EPA Registration Numbers: 59639-3, 59639-132, 59639-2, 59639-83, and 59639-148. Docket ID number: EPA-HQ-OPP-2015-0035. Applicant: Valent U.S.A. Corporation, 1600 Riviera Avenue, Suite 200 Walnut Creek, CA 94596-8025. Active ingredient: Clethodim. Product type: Herbicide. Proposed use: Onion, bulb subgroups 3-07A; vegetable, fruiting group 8-10; fruit, pome group 11-10; fruit, stone group 12-12; berry, low growing subgroup 13-07G (except cranberry); rapeseed subgroup 20A (except flax); sunflower subgroup 20B; cotton seed subgroup 20C; Stevia. Contact: RD.

EPA Registration Number: 100-1120 and 100-1098; Docket ID number: EPA-HQ-OPP-2014-0822. Applicant: Syngenta Crop Protection, LLC., P.O. Box 18300, Greensboro, NC 27419. Active ingredient: Azoxystrobin. Product type: Fungicide. Proposed use: Ti palm. Contact: RD.

EPA Registration Number: 100-618, 100-617, 100-1312, 100-1178, 100-1324. Docket ID number: EPA-HQ-OPP-2014-0788. Applicant: Syngenta Crop Protection LLC., P.O. Box 18300, Greensboro, NC 27419. Active ingredient: Propiconazole. Product type: Fungicide. Proposed use: Dill, fresh; dill dried; dill, dill seed; leafy Brassica greens, subgroup 5B; radish, tops; radish, roots; Ti palm, leaves; Ti palm, roots, watercress, fruit, stone, group 12-12, except plum and nut, tree, group 14-12. Contact: RD.

EPA Registration Numbers: 7969-312 (Technical), 7969-309 and 7969-306 (Enduse products). Docket ID number: EPA-HQ-OPP-2015-0324. Applicant: BASF Corporation, 26 Davis Drive, Research Triangle Park, NC 27709. Active ingredient: Fluxapyroxad. Product type: Fungicide. Proposed uses: Citrus, dried pulp; citrus, oil; fruit, citrus, group 10-10; grass forage, fodder and hay, group 17; non-grass animal feeds, group 18; and poultry, fat. Contact: RD.

EPA Registration Numbers: 241-245 and 241-418. Docket ID number: EPA-HQ-OPP-2014-0397. Applicant: BASF Corporation, 26 Davis Drive, Research Triangle Park, NC 27709. Active ingredient: Pendimethalin. Product type: Herbicide. Proposed use: Caneberry subgroup 13-07A, bushberry subgroup 13-07B and tree nut group 14-12. Contact: RD.

EPA Registration Number: 81880-4, and 81880-5. Docket ID number: EPA-HQ-OPP-2015-0390. Applicant: Gowan Company, P.O. Box 5569, Yuma, AZ 85366. Active ingredient: Pyridaben. Product type: Insecticide. Proposed use: Greenhouse cucumber, pome fruit group 11-10; low growing berry 13-07G; and small fruit vine climbing subgroup 13-07F. Contact: RD.

EPA Registration Number: 33906-20. Docket ID number: EPA-HQ-OPP-2015-0390. Applicant: Nissan Chemical Industries, Ltd., c/o Lewis & Harrison, LLC., 122 C St., NW., Suite 505, Washington, DC 20001. Active ingredient: Pyridaben. Product type: Insecticide. Proposed use: Greenhouse cucumber, pome fruit group 11-10; low growing berry 13-07G; and small fruit vine climbing subgroup 13-07F. Contact: RD.

Authority: 7 U.S.C. 136 et seq.

Dated: July 29, 2015.
Jennifer L. McLain,
Acting, Director, Antimicrobials Division, Office of Pesticide Programs.

[FR Doc. 2015-19273 Filed 8-4-15; 8:45 am]

BILLING CODE 6560-50-P